DEPARTMENT OF HEALTH AND HUMAN SERVICES

National Institutes of Health

Center for Scientific Review; Amended Notice of Meeting

Notice is hereby given of a change in the meeting of the Center for Scientific Review Special Emphasis Panel, November 20, 2000, 4 pm to November 20, 2000, 5 pm, NIH, Rockledge 2, Bethesda, MD, 20892 which was published in the Federal Register on November 17, 2000, 65 FR 69568-69570.

The meeting will be held on December 4, 2000. The time and location remain the same. The meeting is closed to the public.

Dated: November 28, 2000.
LaVerne Y. Stringfield,
Director, Office of Federal Advisory Committee Policy.

[FR Doc. 00-31202 Filed 12-6-00; 8:45 am]

BILLING CODE 4140-01-M